DEPARTMENT OF AGRICULTURE

Forest Service

National Urban and Community Forestry Advisory Council

AGENCY: Forest Service, USDA.

ACTION: Notice of meeting.

SUMMARY: The National Urban and Community Forestry Advisory Council will meet in Lexington, Kentucky, October 12-14, 2000. The purpose of the meeting is to discuss emerging issues in urban and community forestry.

DATES: The meeting will be held October 12-14, 2000. A tour of local projects will be held on October 12, from 8:30 a.m. to 5 p.m.

ADDRESSES: The meeting will be held at the Holiday Inn Lexington North, 1950 Newtown Pike, Lexington, Kentucky.

Individuals who wish to speak at the meeting or to propose agenda items must send their names and proposals to Suzanne M. del Villar, Executive Assistant, National Urban and Community Forestry Advisory Council, 20628 Diane Drive, Sonora, CA 95370. Individuals also may fax their names and proposed agenda items to (209) 536-9089.

FOR FURTHER INFORMATION CONTACT: Suzanne M. del Villar, Cooperative Forestry Staff, at (209) 536-9201.

SUPPLEMENTARY INFORMATION: The meeting is open to the public. Council discussion is limited to Forest Service staff and Council members. However, persons who wish to bring urban and community forestry matters to the attention of the Council may file written statements with the Council staff before or after the meeting. Public input sessions will be provided and individuals who made written requests by October 6 will have the opportunity to address the Council at those sessions.

Dated: September 25, 2000.
Robin L. Thompson,
Associate Deputy Chief, State and Private Forestry.

[FR Doc. 00-25185 Filed 9-29-00; 8:45 am]

BILLING CODE 3410-11-M